DEPARTMENT OF COMMERCE

National Oceanic and Atmospheric Administration (NOAA)

[Docket No. 000712204-0204-01]

SUBJECT: Further Extension of NEXRAD Information Dissemination Service (NIDS) Agreement until December 31, 2000

AGENCY: National Weather Service (NWS), NOAA, Commerce.

ACTION: Notice.

SUMMARY: The NWS is in the process of replacing the NIDS with a Government operated Radar Product Central Collection/ Distribution Service (RPCCDS). Once the RPCCDS is operational, it will be accessible by all users. To allow for a successful transition to this service, the NIDS Agreement with three private vendors distributing WSR-88D products to external users, will be extended through December 31, 2000.

EFFECTIVE DATE: August 8, 2000.

FOR FURTHER INFORMATION CONTACT: Mr. Michael Carelli, NWS NIDS Administrator, at (301) 713-1724 ext. 184, or e-mail: Michael.Carelli@noaa.gov.

SUPPLEMENTARY INFORMATION: The NWS is in the process of replacing the NIDS with a Government operated Radar Product Central Collection/Distribution Service (RPCCDS). Once the RPCCDS is operational, it will be accessible by all users. The NIDS Agreement with three private vendors distributing WSR-88D products to external users was extended through September 30, 2000. The amended NIDS Agreement provides for additional extensions, beyond September 30, 2000, in 90-day increments, as necessary, until the NWS has completed the transition to the replacement RPCCDS.

The RPCCDS has been developed by the NWS and preliminary testing is in progress. The NWS Advanced Weather Interactive Processing System network is used to collect the WSR-88D products from the NWS, Federal Aviation Administration, and Department of Defense WSR-88D sites and deliver them to central radar collection servers that are integrated in the NWS Telecommunication Gateway in Silver Spring, Maryland. The NWS has developed a Demonstration Plan for the RPCCDS to validate the operational readiness of the RPCCDS. The Demonstration Plan is available in “pdf” format on the NWS RPCCDS web page at http://www.nws.noaa.gov/oso/rpccds.html.

In order to provide an adequate period of operational testing and sufficient advance notification to all users of the transition to the RPCCDS, the NIDS Agreement is further extended until December 31, 2000. Once the RPCCDS is operational, the NIDS Agreement will be terminated, but no sooner than December 31, 2000. Once operational, the NWS RPCCDS will provide an open distribution of radar products to all users without data redistribution restrictions.

Dated: July 31, 2000.
John E. Jones, Jr.,
Deputy Assistant Administrator for Weather Services.

[FR Doc. 00-20009 Filed 8-7-00; 8:45 am]

BILLING CODE 3510-KE-M